FEDERAL COMMUNICATIONS COMMISSION

[OMB 3060-XXXX, OMB 3060-XXXX; FR ID 137877]

Information Collections Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before June 30, 2023. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION:

OMB Control Number: 3060-XXXX.

Title: Section 90.175(g)(2), Amendment of Part 90 of the Commission's Rules.

Form Number: N/A.

Type of Review: New information collection.

Respondents: State, Local or Tribal Government.

Number of Respondents and Responses: 213 respondents, 213 responses.

Estimated Time per Response: 1 hour.

Frequency of Response: On occasion reporting requirement.

Obligation to Respond: Required to retain or retain benefits. Statutory authority for this collection is contained in 47 U.S.C. 154(i), 161, 303(g), 303(r), 332(c)(7), and 1401-1473 of the Communications Act of 1934.

Total Annual Burden: 213 hours.

Total Annual Cost: $234,300.

Needs and Uses: This collection will be submitted as a new collection after this 60-day comment period to the Office of Management and Budget (OMB) in order to obtain the full three-year clearance.

Section 90.175(g)(2) adopted in the Commission's Report and Order FCC 23-3 requires public safety applicants seeking to license new or modify existing facilities in the 4.9 GHz band to obtain a frequency recommendation from the nationwide Band Manager before the application is filed with the Commission.

The purpose of requiring each public safety applicant to obtain a frequency recommendation from the nationwide Band Manager is to ensure that public safety entities seeking to license new or modify existing facilities in the 4.9 GHz band cause no interference to incumbent licensees or previously filed applicants.

OMB Control Number: 3060-XXXX.

Title: Sections 90.1207(e)-(f), Amendment of Part 90 of the Commission's Rules.

Form Number: N/A.

Type of Review: New information collection.

Respondents: State, Local or Tribal Government.

Number of Respondents and Responses: 3,871 respondents, 3,871 responses.

Estimated Time per Response: 16-160 hours.

Frequency of Response: On occasion reporting requirement.

Obligation to Respond: Required to obtain or retain benefits. Statutory authority for this collection is contained in 47 U.S.C. 154(i), 161, 303(g), 303(r), 332(c)(7), and 1401-1473 of the Communications Act of 1934.

Total Annual Burden: 592,288 hours.

Total Annual Cost: $14,882,400.

Needs and Uses: This collection will be submitted as a new collection after this 60-day comment period to the Office of Management and Budget (OMB) in order to obtain the full three-year clearance.

Section 90.1207(e) adopted in the Commission's Report and Order FCC 23-3 requires public safety applicants seeking to license new or modify existing facilities in the 4.9 GHz band to submit granular technical data on their proposed operations into ULS. Section 90.1207(f), also adopted in the Commission's Report and Order FCC 23-3, requires incumbent public safety licensees to perform a one-time submission into ULS of the granular data specified in paragraph (e) for their existing operations and gives incumbent licensees at least a one-year period to complete this one-time collection.

The purpose of requiring incumbent public safety licensees and public safety applicants in the 4.9 GHz band to submit granular technical data into ULS is to enable the Band Manager at 4.9 GHz to use the granular technical data on public safety deployments to perform its frequency coordination duties and facilitate non-public safety access to the band.

Federal Communications Commission.
Marlene Dortch,
Secretary, Office of the Secretary.

[FR Doc. 2023-09081 Filed 4-28-23; 8:45 am]

BILLING CODE 6712-01-P